DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action By Trade Adjustment Assistance for Period December 17, 2003-January 21, 2004
Firm name | Address | Date petition accepted | Product
Automated Industrial Technologies, Inc | 1067 Winewood Road, Forest, VA 24551 | Jan. 14, 04 | Machine tool attachments for the automotive industry.
Belleville Wire Cloth Co., Inc | 18 Rutgers Avenue, Cedar Grove, NJ 07009 | Jan. 12, 04 | Seals, high temperature grids, screens and filters of stainless steel wire mesh.
Burgess Manufacturing of Oklahoma, Inc | 1250 Roundhouse Road, Guthrie, OK 73044 | Dec. 17, 03 | Wooden pallets.
Conard Corporation (The) | 101 Commerce Street, Glastonbury, CT 06033 | Dec. 23, 03 | Precision thin metal photochemical machined processed electronic devices for the telecommunications, aerospace, aircraft, electronics and computer industries.
Electri-Cord Manufacturing, Inc | 312 East Main Street, Westfield, PA 16950 | Jan. 12, 04 | Electrical cords.
Homecrest Industries, Inc | 140 Madison Avenue SE, Wadena, MN 56482 | Dec. 22, 03 | Outdoor residential metal furniture.
Innerspec Technologies, Inc | 4004 Murray Place, Lynchburg, VA 24501 | Dec. 22, 03 | Ultrasonic Inspection equipment and parts for the steel industry.
Ioline Corporation | 14140 NE 200th Street, Woodinville, WA 98072 | Dec. 31, 03 | Sign cutters.
Kleen-Tex Industries, Inc | 1516 Orchard Hill Road, LaGrange, GA 30240 | Jan. 5, 04 | Cotton ship towels, mops and matting, and nylon, cotton and rubber matting.
Met Weld, Inc | 5727 Ostrander Road, Altamont, NY 12009 | Jan. 5, 04 | Fuel processing systems that separate, filter or purify gas, oil or liquids.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter.

A request for a hearing must be received by Trade Adjustment Assistance, Room 7315, Economic Development Administration, U.S. Department of Commerce, Washington, D.C. 20230, no later than the close of business of the tenth calendar day following the publication of this notice.

The Catalog of Federal Domestic Assistance official program number and title of the program under which these petitions are submitted is 11.313, Trade Adjustment Assistance.

Dated: January 29, 2004.
Anthony J. Meyer,
Coordinator, Trade Adjustment and Technical Assistance.

[FR Doc. 04-2246 Filed 2-3-04; 8:45 am]

BILLING CODE 3510-24-P